DEPARTMENT OF HEALTH AND HUMAN SERVICES

Health Resources and Services Administration

Advisory Council on Blood Stem Cell Transplantation

AGENCY: Health Resources and Services Administration (HRSA), Department of Health and Human Services.

ACTION: Notice.

SUMMARY: In accordance with the Federal Advisory Committee Act, this notice announces that the Secretary's Advisory Council on Blood Stem Cell Transplantation (ACBSCT) has scheduled public meetings. Information about ACBSCT and the agenda for these meetings can be found on the ACBSCT website at https://bloodstemcell.hrsa.gov/about/advisory-council.

DATES:

• Monday, December 5, 2022, 12-4 p.m. Eastern Time; and

• Tuesday, December 6, 2022, 12-4 p.m. Eastern Time.

ADDRESSES: This meeting will be held virtually by webinar. A link to register and join the meeting will be posted at least 10 days prior to the meeting at https://bloodstemcell.hrsa.gov/about/advisory-council.

FOR FURTHER INFORMATION CONTACT: Shelley Grant, Designated Federal Official, at the HRSA's Health Systems Bureau, Division of Transplantation, 5600 Fishers Lane, 8W-67, Rockville, Maryland 20857; 301-443-8036; or ACBSCTHRSA@hrsa.gov.

SUPPLEMENTARY INFORMATION: ACBSCT provides advice and recommendations to the Secretary of Health and Human Services (Secretary) on policy, program development, and other matters of significance concerning the activities under the authority of 42 U.S.C. Section 274k, Section 379 of the Public Health Service Act, as amended, and Public Law 109-129, and as amended.

During the December 5 and December 6, 2022, meetings, ACBSCT will discuss the impact of COVID-19 on blood stem cell donation and transplantation; unmet needs in blood stem cell transplantation and cellular therapy; strategies to improve rates of adult blood stem donation; and other areas to increase blood stem cell donation and transplantation. Agenda items are subject to change as priorities dictate. Refer to the ACBSCT website for any updated information concerning the meeting. Members of the public will have the opportunity to provide comments. Public participants may submit written statements in advance of the scheduled meetings; oral comments will be honored in the order they are requested and may be limited as time allows. Requests to submit a written statement or make oral comments to ACBSCT should be sent to Shelley Grant using the contact information above at least 3 business days prior to the meeting. Individuals who plan to attend and need special assistance or another reasonable accommodation should notify ACBSCT at the address and phone number listed above at least 10 business days prior to the meeting.

Maria G. Button,
Director, Executive Secretariat.

[FR Doc. 2022-24788 Filed 11-14-22; 8:45 am]

BILLING CODE 4165-15-P